DEPARTMENT OF AGRICULTURE

Forest Service

Flagtail Fire Recovery Project, Malheur National Forest, Grant County, OR

Correction

In notice document 03-2836 beginning on page 6110 in the issue of Thursday, February 6, 2003, make the following correction:

On page 6110, in the second column, under the heading Proposed Action, in the first full paragraph, in the sixth line, after “construction”, add the following text:

“of approximately 4 miles of temporary road, reconstruction of approximately 1/2 mile of existing road, and maitenance”.

[FR Doc. C3-2836 Filed 2-25-03; 8:45 am]

BILLING CODE 1505-01-D

DEPARTMENT OF JUSTICE

Immigration and Naturalization Service

[INS No. 2248-02]

Notice Designating Additional Ports-of-Entry for Departure of Aliens Who Are Subject to Special Registration

Correction

In notice document 03-4130 beginning on page 8047 in the issue of Wednesday, February 19, 2003, make the following correction:

On page 8047, in the third column, under the headingÿ7E Ports-of-Entry Designated for Final Registration and Departure by Nonimmigrant Aliens Subject to Special Registration , in the last two lines, the list is corrected to read as set forth below.

Amistad Dam POE, Texas;

*Alcan POE, Alaska;

Anchorage International Airport, Alaska;

Atlanta Hartsfield International Airport, Georgia;

*Baltimore Washington International Airport, Maryland;

Bell Street Pier 66 (Seattle) Cruise Ship Terminal, Washington;

Bridge of the Americas POE, Texas;

Brownsville/Matamoros POE, Texas;

Buffalo Peace Bridge POE, New York;

Cape Vincent POE, New York;

Calexico POE, California;

*Calais POE, Maine;

* Cape Canaveral Seaport, Florida;

*Chicago Midway Airport, Illinois;

Chicago O'Hare International Airport, Illinois;

Champlain POE, New York;

*Charlotte International Airport, North Carolina;

Chateaugay POE, New York;

*Cleveland International Airport, Ohio;

Columbus POE, New Mexico;

Dallas/Fort Worth International Airport, Texas;

Del Rio International Bridge POE, Texas;

Denver International Airport, Colorado;

*Derby Line POE, Vermont;

*Detroit International (Ambassador) Bridge POE, Michigan;

Detroit Canada Tunnel, Michigan;

Detroit Metro Airport, Michigan;

Douglas POE, Arizona;

Eagle Pass POE, Texas;

*Eastport POE, Idaho;

Fort Covington POE, New York;

*Fort Duncan Bridge POE, Texas;

Galveston POE, Texas;

*Grand Portage POE, Minnesota;

Guam International Airport;

Heart Island POE, New York;

Hidalgo POE, Texas;

Highgate Springs POE, Vermont;

Honolulu International Airport, Hawaii;

Honolulu Seaport, Hawaii;

*Houlton POE, Maine;

Houston George Bush Intercontinental Airport, Texas;

Houston Seaport, Texas;

International Falls POE, Minnesota;

John F. Kennedy International Airport, New York;

*Ketchikan Seaport, Alaska;

*Kona International Airport and Seaport, Hawaii;

Gateway to the Americas Bridge POE, Laredo, Texas;

*Las Vegas (McCarran) International Airport, Nevada;

Lewiston Bridge POE, New York;

Logan International Airport, Massachusetts;

Long Beach Seaport, California;

Los Angeles International Airport, California;

*Madawaska POE, Maine;

Miami International Airport, Florida;

Miami Marine Unit, Florida;

Minneapolis/St. Paul International Airport, Minnesota;

Mooers POE, New York;

Niagara Falls, Rainbow Bridge, New York;

Newark International Airport, New Jersey;

Nogales POE, Arizona;

Ogdensburg POE, New York;

Orlando, Florida;

Oroville POE, Washington;

Otay Mesa POE, California;

Pacific Highway POE, Washington;

Pembina POE, North Dakota;

*Philadelphia International Airport, Pennsylvania;

*Phoenix (Sky Harbor) International Airport, Arizona;

Piegan POE, Montana;

*Pittsburgh International Airport, Pennsylvania;

*Point Roberts POE, Washington;

*Port Everglades Seaport, Florida;

Port Arthur POE, Texas;

*Port Huron POE, Michigan;

Portal POE, North Dakota;

*Portland International Airport, Oregon;

Progreso Bridge POE, Texas;

Raymond POE, Montana;

Roosville POE, Montana;

Rouses Point POE, New York;

San Antonio International Airport, Texas;

*San Diego (Lindbergh Field) International Airport, California;

San Diego Seaport, California;

San Francisco International Airport, California;

*San Juan International Airport and Seaport, Puerto Rico;

*Sanford International Airport, Florida;

*Sault St. Marie POE, Michigan;

Seattle Seaport, Washington;

Seaway International Bridge/Massena POE, New York;

Seattle Tacoma International Airport, Washington;

*St. Louis International Airport (Lambert Field), Missouri;

*St. Thomas Seaport, U.S. Virgin Islands;

Sweetgrass POE, Montana;

*Tampa International Airport and Seaport, Florida;

Thousand Islands POE, New York;

Trout River POE, New York

Washington Dulles International Airport, Virginia; and

Ysleta POE, Texas.

[FR Doc. C3-4130 Filed 2-25-03; 8:45 am]

BILLING CODE 1505-01-D